DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcements (FOA) GH11-002, Conducting Public Health Research in Thailand by the Ministry of Public Health (MOPH); FOA GH12-004M, Conducting Public Health Research in South Africa by the National Health Laboratory Service (NHLS); FOA GH12-005, Conducting Public Health Research in China; and FOA GH14-002, Addressing Emerging Infectious Diseases in Bangladesh.

Time and Date: 8:30 a.m.-1:00 p.m., EST, April 15, 2015 (Closed).

Place: Teleconference.

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to FOA GH11-002, Conducting Public Health Research in Thailand by the Ministry of Public Health (MOPH); FOA GH12-004, Conducting Public Health Research in South Africa by the National Health Laboratory Service (NHLS); FOA GH12-005, Conducting Public Health Research in China; and FOA GH14-002, Addressing Emerging Infectious Diseases in Bangladesh.

Contact Person for More Information: Hylan Shoob, Scientific Review Officer, Center for Global Health (CGH) Science Office, CGH, CDC, 1600 Clifton Road NE., Mailstop D-69, Atlanta, Georgia 30033, Telephone: (404) 639-4796.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-06653 Filed 3-23-15; 8:45 am]

BILLING CODE 4163-18-P